DEPARTMENT OF TRANSPORTATION

Federal Highway Administration

Second Tier Environmental Impact Statement: Jackson County, MO

AGENCY: Federal Highway Administration (FHWA), DOT.

ACTION: Notice of intent.

SUMMARY: The FHWA is issuing this notice to advise the public that a Second Tier Environmental Impact Statement (EIS) will be prepared for proposed improvements to I-70 from west of the Paseo Boulevard interchange to east of the Blue Ridge Cutoff interchange in Jackson County, Missouri.

FOR FURTHER INFORMATION CONTACT: Ms. Peggy J. Casey, Program Development Team Leader, FHWA Division Office, 3220 West Edgewood, Suite H, Jefferson City, MO 65109, Telephone: (573) 636-7104; or Mr. David Nichols, Chief Engineer, Missouri Department of Transportation, P.O. Box 270, Jefferson City, MO 65102, Telephone: (573) 751-4586.

SUPPLEMENTARY INFORMATION: The FHWA, in cooperation with the Missouri Department of Transportation (MoDOT), will prepare a Second Tier EIS to consider impacts of improvements to I-70 from west of the Paseo Boulevard interchange to east of the Blue Ridge Cutoff interchange in Jackson County, Missouri. The project length is approximately 6.8 miles.

In July 2008, FHWA in partnership with MoDOT initiated the I-70 First Tier EIS process for approximately 18 miles of I-70 corridor from the end of the last ramp termini east of the Missouri and Kansas state line to east of the I-470 interchange, including the entire Kansas City, Missouri Central Business District (CBD) Freeway Loop. Its purpose was to determine an improvement strategy for the corridor to address the following needs: Improve safety, reduce congestion, restore and maintain existing infrastructure, improve accessibility, and improve goods movement. Various concepts were combined to develop 15 initial strategies that were screened down to four first tier strategies. These four strategies included the No-Build Strategy, Improve Key Bottlenecks Strategy, Add General Lanes Strategy, and Transportation Improvement Corridor Strategy. After analysis and public review, the First Tier EIS identified a Selected Strategy to improve the I-70 corridor. The Selected Strategy is the Improve Key Bottlenecks Strategy from the downtown loop to east of I-435. From east of I-435 to I-470, the Selected Strategy is either the Improve Key Bottlenecks Strategy or the Add General Lanes Strategy. In March 2010, the Draft First Tier EIS was published. A 49-day comment period, which included two public hearings and an online public hearing, followed publication of the draft. In December 2010, the Final First Tier EIS was published, with a Record of Decision published in April 2011.

The First Tier EIS recommended that the second tier environmental studies for the 18-mile I-70 corridor be divided into five sections of independent utility (SIU). The intent of the second tier environmental studies is to build on and extend the work of the First Tier EIS for improving I-70 as part of the Mid-America Regional Council's long-range transportation plan. Each SIU will be evaluated to the appropriate level of detail (CE, EA, or EIS) within the National Environmental Policy Act process.

FHWA and MoDOT are now preparing a Second Tier EIS that covers the section of I-70 from west of the Paseo Boulevard Interchange to east of the Blue Ridge Cutoff interchange, encompassing two SIUs from the First Tier EIS. The two SIUs are the Urban SIU (Paseo Boulevard to U.S. 40) and I-435 Interchange SIU (U.S. 40 to Blue Ridge Cutoff). The Second Tier EIS will carry forward and refine the needs identified from the First Tier EIS and conduct an alternative analysis based on the Improve Key Bottlenecks Strategy. Through this study, more specific definitions of the improvements and their potential impacts will be developed for consideration by the general public and the various environmental and community resource agencies. Examples of these improvements include modifying access, fixing existing pavement and bridges, improving interchange ramps, adding collector-distributor roads, and providing for bus transit on shoulder. The Second Tier EIS will also evaluate a no-build alternative and alternatives coordinated with ongoing regional transit studies.

As part of the scoping process, interagency coordination meetings will be held with federal and state resource agencies and local agencies. In addition, informational meetings with the public and community representatives will be held to solicit input on the project. A location public hearing will be held to present the findings of the Draft Second Tier EIS. Public notice will be given announcing the time and place of all public meetings and the hearing. The Draft Second Tier EIS will be available for public and agency review and comment prior to the public hearing.

The Second Tier EIS will conform to the environmental review process as established in Section 6002 of the Safe, Accountable, Flexible, Efficient, Transportation Equity Act: A Legacy for Users (SAFETEA-LU). The Section 6002 environmental review process requires the following activities: Identification and invitation of cooperating and participating agencies; establishment of a coordination plan; and opportunities for additional agency and public comment on the project's purpose and need, strategies, and methodologies for determining impacts.

To ensure that the full range of issues related to this proposed action is addressed and all significant issues are identified, comments and suggestions are invited from all interested parties. Comments and questions concerning this proposed action and the Second Tier EIS should be directed to the FHWA or MoDOT at the addresses provided above. Concerns in the study area include potential impacts to natural resources, cultural resources, and communities.

(Catalog of Federal Domestic Assistance Program Number 20.205, Highway Planning and Construction. The regulations implementing Executive Order 12372 regarding intergovernmental consultation on Federal programs and activities apply to this program.)

Issued on: December 14, 2011.
Peggy J. Casey,
Program Development Team Leader, Jefferson City.

[FR Doc. 2011-32492 Filed 12-19-11; 8:45 am]

BILLING CODE 4910-22-P